DEPARTMENT OF COMMERCE

National Oceanic and Atmospheric Administration

[I.D. 050905D]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 127th meeting and Advisory Panel meetings to consider and take actions on fishery management issues in the Western Pacific Region.

DATES: The 127th Council meeting, Advisory Panel meetings and public hearings will be held on May 30 - June 2, 2005. For specific times, and the agenda, see SUPPLEMENTARY INFORMATION.

ADDRESSES: The 127th Council meeting, Advisory Panel meetings and public hearings will be held at the Ala Moana Hotel,410 Atkinson Drive, Honolulu, HI; telephone: 808-955-4811.

FOR FURTHER INFORMATION CONTACT: Kitty M. Simonds, Executive Director; telephone: (808)522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, May 30, 2005

Standing Committee

1. 2 p.m. - 4 p.m. Executive, Budget and Program Standing Committee

Tuesday, May 31, 2005

2. 7 a.m. - 9:30 a.m. Ecosystem and Habitat Standing Committee

3. 7 a.m. - 9:30 a.m. Pelagic and International Standing Committee

4. 9:30 a.m. - Noon Bottomfish Standing Committee

5. 9:30 a.m. - Noon Indigenous Rights Standing Committee

Schedule and Agenda for Council Advisory Panel Meetings

Tuesday, May 31, 2005

7:30 a.m. - Noon

1. Introduction and Overview

2. Council Action Items

A. Bigeye Overfishing

a. Pelagic Plan Team Recommendations

b. SSC Recommendations

B. Hawaii Bottomfish Overfishing

a. Bottomfish Plan Team Report and Recommendations

b. SSC Recommendations

C. Data Intiatives

a. Pelagic and Bottomfish Plan Team Recommendations

b. SSC Recommendations

D. Fishery Ecosystem Plans

a. Coral Reef Ecosystem Plan Team Recommendations

b. SSC Recommendations

E. Black Coral Research and Management

a. Precious Coral Plan Team Recommendations

b. SSC Recommendations

1 p.m. - 5 p.m.

3. Island Area Reports

A. American Samoa

B. Guam

C. CNMI

D. Hawaii

6:30 p.m. - 9 p.m.

4. Discussion on Island Area Issues

A. American Samoa

B. Guam

C. CNMI

D. Hawaii

Wednesday June 1, 2005

7:30 a.m. - Noon (1 p.m. - 5 p.m. if required)

5. Sub-Panel Chairman Reports

A. Commercial Advisory Panel Report and Recommendations

B. Recreation Advisory Panel Report and Recommendations

C. Indigenous and Subsistence Advisory Panel Reports and Recommendations

D. Ecosystem and Habitat Advisory Panel Report and Recommendations

6. Full Panel Discussion and Recommendations

7. Other Business

Schedule and Agenda for Public Hearings

Tuesday, May 31, 2005

11:30 a.m. - Noon

Black Coral Management Options

2:30 p.m. - 3 p.m.

Community Demonstration Projects Program AP Recommendations

5 p.m. - 5:30 p.m.

Hawaii Bottomfish Overfishing Plan

Thursday, June 2, 2005

9:30 a.m. - 10 a.m.

Bigeye Tuna Overfishing Plan

11:30 a.m. - Noon

MPA Objectives and Goals, Criteria for Establishing Monitoring and Evaluating MPAs First Draft.

For more information on public hearing items, see Background Information.

The agenda during the full Council meeting will include the items listed here.

Schedule and Agenda for Council Meeting

1 p.m - 6:30 p.m. Tuesday, May 31, 2005

1. Introductions

2. Approval of agenda

3. Approval of 126th meeting minutes

4. Island reports

A. American Samoa

B. Guam

C. Hawaii

D. CNMI

5. Reports from fishery agencies and organizations

A. Department of Commerce

a. NMFS

i. Pacific Islands Regional Office

ii. Pacific Islands Fisheries Science Center

b. National Marine Sanctuary Program

i. Pacific Sanctuaries update

c. NOAA General Counsel Southwest Region/Pacific Islands Region

B. The Department of the Interior - The U.S. Fish and Wildlife Service (USFWS)

C. State Department

6. Enforcement/vessel monitoring systems A. US Coast Guard activities

B. NOAA Office of Law Enforcement (OLE) Activities

C. Status of Violations

8 a.m - 5:30 p.m. Wednesday June 1, 2005

7. Protected Species

A. Olive Ridley Sea Turtle BiOp

B. Report on Marine Mammal Advisory Committee

C. Report on Turtle Advisory Committee

8. Precious Coral Fisheries

A. Black Coral Management

a. State of Hawaii Black Coral Research

b. Black Coral Management Options (ACTION ITEM)

B. Advisory Panel Recommendations

C. Plan Team Recommendations

D. SSC Recommendations

9. Fishery Rights of Indigenous Peoples

A. Community Demonstration Projects Program AP Recommendations (ACTION ITEM)

B. South Pacific Community (SPC)-Council- Food and Agriculture Organisation (FAO) Community-Based Management Workshop.

C. SSC Recommendations

D. Standing Committee Recommendations

E. Advisory Panel Recommendations

10. Bottomfish Fisheries

A. Hawaii Bottomfish Overfishing Plan (ACTION ITEM)

B. Plan Team Recommendations

C. SSC Recommendations

D. Standing Committee Recommendations

E. Advisory Panel Recommendations

6 p.m. - 9 p.m. Wednesday June 1, 2005

11. Fishers Forum

A. Fish Tagging Programs

B. Bottomfish and Bigeye Tuna Overfishing

8 a.m - 6 p.m. Thursday June 2, 2005

12. Pelagic Fisheries

A. Bigeye Overfishing Plan (ACTION ITEM)

B. Swordfish Season Report

C. Stock Assessment Report and Status

D. Plan Team Recommendations

E. SSC Recommendations

F. Standing Committee Recommendations

G. Advisory Panel Recommendations

13. Ecosystems and Habitat

A. MPA Objectives and Goals, Criteria for Establishing Monitoring and Evaluating MPAs First Draft (ACTION ITEM)

B. Fishery Ecosystem Plans

a. Strategic Level Alternatives for Marianas FEP

b. Fishery Ecosystem Plan Workshop

C. Plan Team Recommendationss

D. SSC Recommendations

E. Advisory Panel Recommendations

F. Standing Committee Recommendations

14. Program Planning and Budget

A. Hawaii Data Collection and Reporting Options

B. Update on Legislation

C. Magnuson Act Reauthorization

D. Advisory Panel Recommendations

E. Standing Committee Recommendations

15. Administrative Matters

A. Financial Reports

B. Administrative Report

C. Meetings and Workshops

D. Advisory Group Changes

E. Standing Committee Recommendations

16. Other Business

Background Information

1. Black Coral Management Options (Initial Action)

A public hearing will be held on initial action to implement a framework adjustment to the Precious Corals FMP to revise the minimum harvest size for black corals (Antipathes sp.) due to the effects of Carijoa riisei and harvest pressure on black corals in the Main Hawaiian Islands. Based on comments received during Precious Coral Plan Team meetings, as well as subsequent SSC, Council, and public working group meetings, the Council developed an options document that includes: (1) Removing the exemption allowing harvest of black corals with a minimum base diameter of 3/4 inch (1.905 cm) or minimum height of 36 inches (0.9144 m) by persons who reported harvest to the State of Hawaii within 5 years prior to April 17, 2002; (2) establishing a 48-inch(1.2192 m)minimum height only requirement for harvest of black coral colonies; (3) eliminating any minimum base diameter requirement; and (4) eliminating any minimum height requirement. At its 127th meeting, the Council may take initial action to identify and support a range of alternatives, including selection of a preliminary preferred alternative, to be further analyzed in a framework adjustment to the Precious Coral Fishery Management Plan.

2. Community Demonstration Projects Program AP Recommendations (Action Item)

A public hearing will be held on initial action to implement a framework adjustment to the Precious Corals FMP to revise the minimum harvest size for black corals (Antipathes sp.) due to the effects of Carijoa riisei and harvest pressure on black corals in the Main Hawaiian Islands. Based on comments received during Precious Coral Plan Team meetings, as well as subsequent SSC, Council, and public working group meetings, the Council developed an options document that includes: (1) Removing the exemption allowing harvest of black corals with a minimum base diameter of 3/4 inch(1.905 cm) or minimum height of 36 inches (0.9144 m) by persons who reported harvest to the State of Hawaii within five years prior to April 17, 2002; (2) Establishing a 48-inch(1.2192 m)minimum height only requirement for harvest of black coral colonies; (3) eliminating any minimum base diameter requirement; and (4) eliminating any minimum height requirement. At its 127th meeting, the Council may take initial action to identify and support a range of alternatives, including selection of a preliminary preferred alternative, to be further analyzed in a framework adjustment to the Precious Coral Fishery Management Plan.

3. Hawaii Bottomfish Overfishing Plan (Initial Action)

The Council is currently reviewing its responsibilities for sustainable fisheries under the Magnuson-Stevens Act, with respect to National Standard 1, which requires Councils to prevent overfishing and keep resources from becoming overfished. Under the reference points adopted by the Council, bottomfish resources in Hawaii are likely to soon be determined by the Secretary of Commerce to be experiencing overfishing due to excessive fishing effort in the Main Hawaiian Islands (MHI). Once that determination is made, the Council will have 1 year to recommend management measures to reduce fishing effort in the MHI bottomfish fishery. The Council will consider taking action to address two concerns: (1) the lack of data regarding bottomfish fishing mortality by recreational fishermen in the MHI and (2) the need to reduce bottomfish fishing mortality around the MHI to prevent overfishing on MHI bottomfish resources. Options to be considered by the Council to address data collection include:

1. No Option

2. Expand the Hawaii Marine Recreational Fishery Survey

3. Implement “Drop box” reporting

4. Require Federal permits and logbooks for recreational bottomfish fishermen

5. Conduct targeted surveys of Hawaii recreational bottomfish fishermen using the State's bottomfish management registry

Options to be considered by the Council to address excess fishing mortality in the MHI include:

1. No action.

2. Incorporate the State's Main Hawaiian Islands bottomfish management regime into Federal regulations.

3. Establish new bottomfish area closures in Federal waters in the MHI in addition to the current state closures:

3a. Close Federal waters around Penguin Banks to bottomfish fishing

3b. Close Federal waters around Middle Bank to bottomfish fishing

4. Establish a control date for future MHI fishery participation.

5. Establish a limited entry program for the MHI fishery.

6. Establish individual fishing quotas for MHI fishermen.

7. Establish a Federal permit and logbook program for all fishermen targeting bottomfish on Penguin Banks or Middle Bank.

8. Establish July-September seasonal closures for targeting and landing of bottomfish from the MHI

4. Bigeye Tuna Overfishing Plan (Final Action)

In December 2004, the Western Pacific and Pacific Councils were officially notified by the National Marine Fisheries Service, on behalf of the Secretary of Commerce, that overfishing is occurring on bigeye tuna in the Pacific. As required by the Magnuson-Stevens Act (16 U.S.C. 1854 (e)(3)) and the implementing regulations at 50 CFR 600.310(e)(3), the Councils must take action to address overfishing within one year of an identification by the Secretary that overfishing is occurring. The overfishing determination was made in the annual report on the status of fisheries in 2003, which was transmitted to Congress on June 15, 2004, which means that the Council has until June 14, 2005 in which to take remedial action to end overfishing. Accordingly, 126th Council Meeting recommended that Council staff develop a plan to address BET overfishing in the Pacific Ocean and it elements and recommendations for domestic and international fisheries.

The principal domestic measure recommended by the Council at it 126th meeting was that the Hawaii offshore tuna handline, private FAD, vertical longline and short-line (mainline < 1 nm) fisheries in the EEZ be federally permitted fisheries with log books, limited entry programs, and observers where appropriate. However, a more recent review of the data on the offshore tuna handline by the Pelagic Plan Team (PPT)in May 2005, suggests that the available data on landings may not require a limited entry program at this time. However, there were concerns that the reported statistics for this fishery (which is actually a mix of different hook and line gears) may be underestimates, and that serious efforts should be made to pursue accurate landings data for the fishery. The PPT also approved a protocol to be incorporated into the Pelagics FMP by which the Council would take action on international management of HMS species. This includes ensuring Council inclusion in US delegations to international fishery management meetings and the drafting of position papers on measures to reduce overfishing and rebuild stocks.

The Council will review PPT and SSC comments and recommendations and may take final action on an FMP amendment on how to deal with BET overfishing both in the domestic and international fisheries.

5. MPA Objectives and Goals, Criteria for Establishing Monitoring and Evaluating MPAs First Draft (Action Item)

The Council MPA Working Group is developing a guide for Council family reference when working on MPA issues. “MPA Goals and Objectives, and Criteria for Establishing, Monitoring and Evaluating MPAs” is a dynamic document, updated with the best available science. The Document incorporates a flowchart illustrating a NEPA based process to establish, monitor and evaluate MPAs, and criteria for establishing, monitoring and evaluating MPAs are detailed. The Council is asked to review a first draft of this document.

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Dated: May 9, 2005.
Emily Menashes,
Acting Director, Office of Sustainable Fisheries, National Marine Fisheries Service.

[FR Doc. E5-2338 Filed 5-11-05; 8:45 am]

BILLING CODE 3510-22-S